MORRIS K. UDALL SCHOLARSHIP AND EXCELLENCE IN NATIONAL ENVIRONMENTAL POLICY FOUNDATION

Sunshine Act Meeting

TIME AND DATE: 9 a.m. to 3 p.m., Friday, April 25, 2003.

PLACE: The offices of the Morris K. Udall Scholarship and Excellence in National Environmental Policy Foundation, 130 South Scott Avenue, Tucson, AZ 85701.

STATUS: This meeting will be open to the public, unless it is necessary for the Board to consider items in executive session.

MATTERS TO BE CONSIDERED: (1) A report on the U.S. Institute for Environmental Conflict Resolution; (2) A report from the Udall Center for Studies in Public Policy; (3) A report on the Native Nations Institute; (4) Program Reports; (5) A report on the Udall Archives; and (6) A Report from the Management Committee.

PORTIONS OPEN TO THE PUBLIC: All sessions with the exception of the session listed below.

PORTIONS CLOSED TO THE PUBLIC: Executive session.

CONTACT PERSON FOR MORE INFORMATION: Christopher L. Helms, Executive Director, 130 South Scott Avenue, Tucson, AZ 85701, (520) 670-5529.

Dated: April 1, 2003.
Christopher L. Helms,
Executive Director, Morris K. Udall Scholarship and Excellence in Naitonal Environmental Policy Foundation, and Federal Register Liaison Officer.

[FR Doc. 03-8326 Filed 4-2-03; 10:42 am]

BILLING CODE 6820-FN-M